DEPARTMENT OF AGRICULTURE

Forest Service

Notice of Resource Advisory Committee Meeting

AGENCY: Crook County Resource Advisory Committee, Sundance, Wyoming, USDA, Forest Service.

ACTION: Notice of meeting.

SUMMARY: Pursuant to the authorities in the Federal Advisory Committee Act (Public Law 92-463) and under the Secure Rural Schools and Community Self-Determination Act of 2000 (Public Law 106-393) the Black Hills National Forests' Crook County Resource Advisory Committee will meet Tuesday February 18, 2003 in Sundance, Wyoming for a business meeting. The meeting is open to the public.

SUPPLEMENTARY INFORMATION: The business meeting on February 18, begins at 6:30 PM, at US Forest Service, Bearlodge Ranger District Office, 121 South 21st Street, Sundance, Wyoming. Agenda topics will include reviewing NEPA requirements and project proposals. A public forum will begin at 8:30 PM (MT).

FOR FURTHER INFORMATION CONTACT: Steve Kozel, Bearlodge District Ranger and Designated Federal Office, at (307) 283-1361.

Dated: January 28, 2003.
Steve Kozel,
Bearlodge District Ranger.

[FR Doc. 03-2631 Filed 2-3-03; 8:45 am]

BILLING CODE 3410-11-M